DEPARTMENT OF COMMERCE

Submission for OMB Review; Comment Request

The Department of Commerce (DOC) will submit to the Office of Management and Budget (OMB) for clearance the following proposal for collection of information under the provisions of the Paperwork Reduction Act (44 U.S.C. Chapter 35).

Agency: Bureau of Economic Analysis (BEA), Commerce.

Title: Transactions of U.S. Affiliate, Except a U.S. Banking Affiliate, with Foreign Parent (Form BE-605) and Transactions of U.S. Banking Affiliate with Foreign Parent (Form BE-605 Bank).

Form Number(s): BE-605 and BE-605 Bank.

Agency Approval Number: 0608-0009.

Type of Request: Revision of a currently approved collection.

Burden: 15,800 hours.

Number of Respondents: 3,950 per quarter; 15,800 annually.

Average Hours Per Response: 1 hour.

Needs and Uses: The data collected are used in the preparation of the international transactions accounts, national income and product accounts, and input-output accounts. The data are needed to measure the amount of foreign direct investment in the United States, monitor changes in such investment, assess its impact on the U.S. and foreign economies and, based upon this assessment, make informed policy decisions regarding foreign direct investment in the United States. Also, the data from the BE-605 survey complement data from BEA's other ongoing surveys of foreign direct investment in the United States, namely the BE-13, Initial Report on a Foreign Person's Direct or Indirect Acquisition, Establishment, or Purchase of the Operating Assets, of a U.S. Business Enterprise, Including Real Estate, and the BE-12 (benchmark) and BE-15 (annual) surveys, which provide data on the overall operations of U.S. affiliates.

Affected Public: U.S. businesses or other for-profit institutions.

Frequency: Quarterly.

Respondent's Obligation: Mandatory.

Legal Authority: International Investment and Trade in Services Survey Act (Pub. L. 94-472, 22 U.S.C. 3101-3108).

OMB Desk Officer: Paul Bugg, (202) 395-3093.

You may obtain copies of the above information collection proposal by writing Diana Hynek, Departmental Paperwork Clearance Officer, Department of Commerce, Room 6025, 14th and Constitution Avenue, NW., Washington, DC 20230, or e-mail dhynek@doc.gov.

Send comments on the proposed information collection within 30 days of publication of this notice to the Office of Management and Budget, O.I.R.A., Attention PRA Desk Officer for BEA, e-mail pbugg@omb.eop.gov, or by FAX at 202-395-7245.

Dated: December 11, 2006.
Madeleine Clayton,
Management Analyst, Office of the Chief Information Officer.

[FR Doc. E6-21321 Filed 12-14-06; 8:45 am]

BILLING CODE 3510-07-P